FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202)-523-5793 or tradeanalysis@fmc.gov.

Agreement No.: 011275-028.

Title: Australia and New Zealand/United States Discussion Agreement.

Parties: ANL Singapore PTE LTD.; Hamburg-Südamerikanische Dampfschifffahrts-Gesellschaft KG; and Hapag-Lloyd AG.

Filing Party: Wayne R. Rohde, Esq., Sher & Blackwell LLP, 1850 M Street, NW., Suite 900, Washington, DC 20036.

Synopsis: The amendment reduces the minimum service levels to be provided under the agreement.

Agreement No.: 011426-043.

Title: West Coast of South America Discussion Agreement.

Parties: APL Co. Pte Ltd.; Compania Chilena de Navigacion Interoceanica, S.A.; Compania Sud Americana de Vapores, S.A.; Frontier Liner Services, Inc.; Hamburg-Süd; King Ocean Services Limited, Inc.; Maruba S.C.A.; Seaboard Marine Ltd.; South Pacific Shipping Company, Ltd.; and Trinity Shipping Line.

Filing Party: Wayne R. Rohde, Esq., Sher & Blackwell LLP, 1850 M Street, NW., Suite 900, Washington, DC 20036.

Synopsis: The amendment would add Mediterranean Shipping Company, SA as a party to the agreement.

Agreement No.: 011960-004.

Title: The New World Alliance Agreement.

Parties: American President Lines, Ltd.; APL Co. Pte, Ltd.; Hyundai Merchant Marine Co., Ltd.; and Mitsui O.S.K. Lines, Ltd. (“MOL”).

Filing Party: Eric C. Jeffrey, Esq., Counsel for APL, Goodwin Procter LLP, 901 New York Avenue, NW., Washington, DC 20001.

Synopsis: The amendment would authorize APL to charter space to Hanjin in the trade between the Far East and the U.S. East Coast via Suez Canal.

Agreement No.: 012071.

Title: APL/Hanjin Reciprocal Space Charter Agreement.

Parties: American President Lines, Ltd.; APL Co. Pte, Ltd.; and Hanjin Shipping Co., Ltd.

Filing Party: Eric C. Jeffrey, Esq., Counsel for APL, Goodwin Procter LLP, 901 New York Avenue, NW., Washington, DC 20001.

Synopsis: The agreement would authorize APL to charter space to Hanjin in the trade between the Far East and the United States East Coast via Suez Canal, and authorizes Hanjin to charter space to APL in the trade between the Indian Subcontinent, Middle East and Far East and United States East Coast via the Panama Canal.

By Order of the Federal Maritime Commission.
Dated: June 26, 2009.
Karen V. Gregory,
Secretary.

[FR Doc. E9-15593 Filed 6-30-09; 8:45 am]

BILLING CODE 6730-01-P